ENVIRONMENTAL PROTECTION AGENCY

[FRL-9273-2]

Science Advisory Board Staff Office; Notification of a Public Teleconference of the Environmental Economics Advisory Committee Augmented for Valuing Mortality Risk Reductions

AGENCY: Environmental Protection Agency (EPA).

ACTION: Notice.

SUMMARY: The Environmental Protection Agency (EPA) Science Advisory Board (SAB) Staff Office announces a public teleconference of the Environmental Economics Advisory Committee Augmented for Mortality Risk Valuation to review its draft Advisory on EPA's White Paper “Valuing Mortality Risk Reduction for Environmental Policy” (December 10, 2010).

DATES: The public teleconference will be held on Monday, March 14, 2011 from 12 p.m. to 3 p.m. Eastern time.

ADDRESSES: The teleconference will be conducted by telephone only.

FOR FURTHER INFORMATION CONTACT: Any member of the public who wants further information concerning the teleconference may contact Dr. Holly Stallworth, Designated Federal Officer (DFO), EPA Science Advisory Board (1400R), U.S. Environmental Protection Agency, 1300 Pennsylvania Avenue, NW., Washington, DC 20460; via telephone/voice mail (202) 564-2073; fax (202) 565-2098; or e-mail at stallworth.holly@epa.gov. General information concerning the SAB can be found on the EPA Web site at http://www.epa.gov/sab.

SUPPLEMENTARY INFORMATION:

Background: The SAB was established pursuant to the Environmental Research, Development, and Demonstration Authorization Act (ERDAA), codified at 42 U.S.C. 4365, to provide independent scientific and technical advice to the Administrator on the technical basis for Agency positions and regulations. The SAB is a Federal Advisory Committee chartered under the Federal Advisory Committee Act (FACA), 5 U.S.C., App. 2. Pursuant to FACA and EPA policy, notice is hereby given that the SAB Dioxin Review Panel, a subcommittee of the SAB, will hold a public meeting to discuss a draft advisory report. The SAB Dioxin Review Panel and the SAB will comply with the provisions of FACA and all appropriate SAB Staff Office procedural policies.

Background for this project may be found in 75 FR 80048-80049 describing the history of the SAB EEAC's advice to EPA on its guidelines for valuing mortality risk reduction. As announced in that notice, the SAB EEAC held a face-to-face meeting on January 20-21 2011 to discuss charge questions related to the EPA White Paper “Valuing Mortality Risk Reductions for Environmental Policy” (December 10, 2010) posted at http://yosemite.epa.gov/sab/sabproduct.nsf/0/34D7008FAD7FA8AD8525750400712AEB/?OpenDocument.

The March 14, 2011 teleconference will be used to discuss the EEAC's draft report to the Administrator. This draft report will respond to charge questions posted at http://yosemite.epa.gov/sab/sabproduct.nsf/MeetingCal/A36589D46F1D2C8F852577C7004D376E?OpenDocument.

Technical Contacts: Any questions concerning EPA's White Paper should be directed to Dr. Nathalie Simon, NCEE at 202-566-2347 or simon.nathalie@epa.gov.

Availability of Meeting Materials: A meeting agenda and draft report from the EEAC Augmented for Mortality Risk Valuation and other materials for the meeting will be placed on the SAB Web site at http://www.epa.gov/sab.

Procedures for Providing Public Input: Interested members of the public may submit relevant written or oral information for consideration on the topics included in this advisory activity. Oral Statements: To be placed on the public speaker list for the March 14, 2011 meeting, interested parties should notify Dr. Holly Stallworth, DFO, by e-mail no later than March 7, 2011. Individuals making oral statements will be limited to three minutes per speaker. Written Statements: Written statements for the meeting should be received in the SAB Staff Office by March 7, 2011 so that the information may be made available to the SAB Panel for its consideration prior to this meeting. Written statements should be supplied to the DFO via e-mail (acceptable file format: Adobe Acrobat PDF, MS Word, WordPerfect, MS PowerPoint, or Rich Text files in IBM-PC/Windows 98/2000/XP format).

Accessibility: For information on access or services for individuals with disabilities, please contact Dr. Stallworth at the phone number or e-mail address noted above, preferably at least ten days prior to the meeting, to give EPA as much time as possible to process your request.

Dated: February 16, 2011.
Anthony F. Maciorowski,
Deputy Director, EPA Science Advisory Board Staff Office.

[FR Doc. 2011-4502 Filed 2-28-11; 8:45 am]

BILLING CODE 6560-50-P